DEPARTMENT OF AGRICULTURE

Natural Resources Conservation Service

White Tank Mountains Watershed, AZ

AGENCY: Natural Resources Conservation Service.

ACTION: Notice of deauthorization of Federal funding.

SUMMARY: Pursuant to the Watershed Protection and Flood Prevention Act, Pub. L. 83-566, and the Natural Resources Conservation Service Guidelines (7 CFR 622), the Natural Resources Conservation Service gives notice of the deauthorization of Federal funding for the White Tank Mountains Watershed, Maricopa County, Arizona effective on March 9, 2005.

FOR FURTHER INFORMATION CONTACT: David L. McKay, State Conservationist, Natural Resources Conservation Service, 230 North First Avenue, Suite 509, Phoenix, Arizona 85003-1706, telephone: 602-280-8810.

(Catalog of Federal Domestic Assistance Program No. 10.904, Watershed Protection and Flood Prevention. Office of Management and Budget Circular A-95 regarding State and local clearinghouse review of Federal and federally assisted programs and projects is applicable.)

Dated: March 24, 2005.
David L. McKay,
State Conservationist.

[FR Doc. 05-6646 Filed 4-1-05; 8:45 am]

BILLING CODE 3410-16-P